DEPARTMENT OF TRANSPORTATION

Federal Aviation Administration

Notice of Passenger Facility Charge (PFC) Approvals and Disapprovals

AGENCY: Federal Aviation Administration (FAA), DOT.

ACTION: Monthly Notice of PFC Approvals and Disapprovals. In November 2013, there were four applications approved. This notice also includes information on one application, approved in October 2013, inadvertently left off the October 2013 notice. Additionally, seven approved amendments to previously approved applications are listed.

SUMMARY: The FAA publishes a monthly notice, as appropriate, of PFC approvals and disapprovals under the provisions of the Aviation Safety and Capacity Expansion Act of 1990 (Title IX of the Omnibus Budget Reconciliation Act of 1990) (Pub. L. 101-508) and Part 158 of the Federal Aviation Regulations (14 CFR Part 158). This notice is published pursuant to paragraph d of § 158.29.

PFC Applications Approved

Public Agency: Huntsville-Madison County Airport Authority, Huntsville, Alabama.

Application Number: 13-19-C-00-HSV.

Application Type: Impose and use a PFC.

PFC Level: $4.50.

Total PFC Revenue Approved in This Decision: $2,481,886.

Earliest Charge Effective Date: September 1, 2022.

Estimated Charge Expiration Date: October 1, 2023.

Classes of Air Carriers not Required to Collect PFC's: (1) Air taxi/commercial operators filing FAA Form 1800-31 and operating at Huntsville International Airport (HSV); (2) certified air carriers filing U.S. Department of Transportation (DOT) Form T-100, operating at HSV, and having fewer than 500 annual passenger enplanements; (3) certified route air carriers filing DOT Form T-100, operating at HSV, and having fewer than 500 annual passenger enplanements; and (4) foreign air carriers filing DOT Form T-100, operating at HSV, and having fewer than 500 annual passenger enplanements.

Determination: Approved. Based on information contained in the public agency's application, the FAA has determined each of the approved classes account for less than 1 percent of the total annual enplanements at HSV.

Brief Description of Projects Approved for Collection and Use:

Wildlife hazard assessment.

Group VI airfield improvements.

Decision Date: October 29, 2013.

FOR FURTHER INFORMATION CONTACT: Luke Flowers, Jackson Airports District Office, (601) 664-9898.

Public Agency: County of Mohave, Bullhead City, Arizona.

Application Number: 14-02-C-00-IFP.

Application Type: Impose and use a PFC.

PFC Level: $2.00.

Total PFC Revenue Approved in This Decision: $1,477,531.

Earliest Charge Effective Date: January 1, 2014.

Estimated Charge Expiration Date: January 1, 2025.

Classes of Air Carriers Not Required to Collect PFC's: (1) Nonscheduled/on demand air carriers filing FAA Form 1800-31; and (2) nonscheduled commuters or small certificated air carriers filing DOT Form T-100.

Determination: Approved. Based on information contained in the public agency's application, the FAA has determined each of the approved classes account for less than 1 percent of the total annual enplanements at Laughlin/Bullhead International Airport.

Brief Description of Projects Approved for Collection and Use:

Improve terminal building, phases I, II, and III.

Environmental assessment for runway 16/34 extension.

Conduct Part 150 noise compatibility study.

Rehabilitate parallel taxiway A pavement and lighting.

Environmental assessment for land acquisition (300 acres).

Extend runway 16/34 taxiway—design.

Wildlife hazard assessment.

Extend runway 16/34 taxiway—construction.

Rehabilitate existing rotating beacon.

Slurry seal runway 16/34 pavement.

Rehabilitate general aviation apron.

PFC administrative cost.

Brief Description of Projects Approved for Collection:

Americans with Disabilities Act passenger ramp.

Air Traffic Control Tower communications equipment/radios.

Land acquisition for terminal development (300 acres).

Air Traffic Control Tower security upgrades.

Brief Description of Disapproved Projects:

Rehabilitate existing aircraft rescue and firefighting vehicle.

Determination: The FAA determined that the proposed vehicle to be rehabilitated exceeded the airports current Part 139 index. Therefore, the vehicle does not meet the requirements of § 158.15(b)(1).

Safety management system study.

Determination: The public agency did not submit sufficient required information to permit the FAA to make an eligibility determination.

Decision Date: November 1, 2013.

FOR FURTHER INFORMATION CONTACT: Darlene Williams, Los Angeles Airports District Office, (310) 725-3623.

Public Agency: Greater Orlando Aviation Authority, Orlando, Florida.

Application Number: 13-16-C-00-MCO.

Application Type: Impose and use a PFC.

PFC Level: $4.50.

Total PFC Revenue Approved in This Decision: $232,500,000.

Earliest Charge Effective Date: June 1, 2031.

Estimated Charge Expiration Date: July 1, 2034.

Class of Air Carriers Not Required To Collect PFC's: None.

Brief Description of Project Approved for Collection and Use at a $4.50 PFC Level:

Airside 4 capacity improvements.

Brief Description of Project Approved for Collection and Use at a $3.00 PFC Level:

Airside 4 central energy plant.

Decision Date: November 1, 2013.

FOR FURTHER INFORMATION CONTACT: Susan Moore, Orlando Airports District Office, (407) 812-6331.

Public Agency: City of Gainesville, Florida.

Application Number: 14-03-C-00-GNV.

Application Type: Impose and use a PFC.

PFC Level: $4.50.

Total PFC Revenue Approved in This Decision: $1,250,942.

Earliest Charge Effective Date: January 1, 2014.

Estimated Charge Expiration Date: August 1, 2016.

Class of Air Carriers Not Required to Collect PFC's: None.

Brief Description of Project Approved for Collection and Use:

Taxiway A lighting and vault.

Acquire 1,500 gallon aircraft rescue and firefighting vehicle.

Taxiway A-1 and B pavement and lighting.

Part 150 noise compatibility plan study.

Wildlife hazard assessment study.

Rehabilitate commercial apron pavement.

Purchase runway sweeper.

Security and wildlife perimeter fence (phase 1).

Rehabilitate taxiway C.

Rehabilitate south airfield electrical vault.

Security and wildlife perimeter fence (phase 2).

Rehabilitate apron high mast lighting.

Rehabilitate on airport service roads.

Rehabilitate taxiway E—design phase.

Wildlife hazard management plan.

Aircraft rescue and firefighting radios.

Emergency communications vehicle.

Master plan update.

Rehabilitate taxiway E—construction phase.

Rehabilitate ticket counters and restrooms.

Decision Date: November 8, 2013.

FOR FURTHER INFORMATION CONTACT: Susan Moore, Orlando Airports District Office, (407) 812-6331.

Public Agency: City of Lubbock, Texas.

Application Number: 13-08-C-00-LBB.

Application Type: Impose and use a PFC.

PFC Level: $4.50.

Total PFC Revenue Approved in This Decision: $6,859,912.

Earliest Charge Effective Date: September 1, 2016.

Estimated Charge Expiration Date: March 1, 2020.

Classes of Air Carriers Not Required to Collect PFC's: (1) Air taxi/commercial operators filing FAA Form 1800-31; (2) commuters and small certificated air carriers filing DOT Form T-100 for nonscheduled enplanements; and (3) large certificated route air carriers filing DOT Form T-100 for nonscheduled enplanements.

Determination: Approved. Based on information contained in the public agency's application, the FAA has determined each of the approved classes account for less than 1 percent of the total annual enplanements at Lubbock Preston Smith International Airport.

Brief Description of Projects Approved for Collection and Use:

Improve service road (relocate perimeter road).

Runway 17R/35L improvements.

Decision Date: November 12, 2013.

FOR FURTHER INFORMATION CONTACT: Steven Cooks, Texas Airports Development Office, (817) 222-5600.

Amendment to PFC Approvals
Amendment No., city, state | Amendment approved date | Original approved net PFC revenue | Amended approved net PFC revenue | Original estimated charge exp. date | Amended estimated charge exp. date
07-11-C-03-COS, Colorado Springs, CO | 11/05/13 | $2,243,400 | $2,160,952 | 01/01/11 | 09/01/09
08-12-C-03-COS, Colorado Springs, CO | 11/05/13 | 2,880,883 | 2,159,501 | 02/01/11 | 10/01/10
08-13-C-02-COS, Colorado Springs, CO | 11/05/13 | 500,000 | 360,328 | 05/01/11 | 01/01/11
09-15-C-01-COS, Colorado Springs, CO | 11/06/13 | 848,562 | 822,519 | 05/01/11 | 05/01/11
09-16-C-01-COS, Colorado Springs, CO | 11/06/13 | 719,024 | 604,884 | 09/01/11 | 09/01/11
12-06-C-02-MAF, Midland, TX | 11/19/13 | 967,278 | 4,351,978 | 07/01/15 | 04/01/17
02-09-C-06-MCO, Orlando, FL | 11/20/13 | 165,358,198 | 130,796,988 | 10/01/12 | 04/01/12

Issued in Washington, DC, on December 30, 2013.
Joe Hebert,
Manager, Financial Analysis and Passenger Facility Charge Branch.

[FR Doc. 2013-31554 Filed 1-3-14; 8:45 am]

BILLING CODE 4910-13-P